ENVIRONMENTAL PROTECTION AGENCY

40 CFR Part 70

[VA-T5-2001-01a; FRL-7106-3]

Clean Air Act Full Approval of Operating Permit Program; Virginia; Withdrawal of Direct Final Rule

AGENCY: Environmental Protection Agency (EPA).

ACTION: Withdrawal of direct final rule.

SUMMARY: Due to an adverse comment, EPA is withdrawing the direct final rule fully approving the operating permit program of the Commonwealth of Virginia. In the direct final rule published on October 10, 2001 (66 FR 51581), we stated that if we received adverse comment by November 9, 2001, the rule would be withdrawn and not take effect. EPA subsequently received adverse comment. EPA will address the comments received in a subsequent final action based upon the proposed action also published on October 10, 2001 (66 FR 51620). EPA will not institute a second comment period on this action.

EFFECTIVE DATE: The Direct final rule is withdrawn as of November 21, 2001.

FOR FURTHER INFORMATION CONTACT: David Campbell, Permits and Technical Assessment Branch at (215) 814-2196 or by e-mail at campbell.dave@.epa.gov.

List of Subjects in 40 CFR Part 52

Environmental protection, Air pollution control, Environmental protection, Intergovernmental relations, Operating permits, Reporting and recordkeeping requirements.

Dated: November 13, 2001.
James W. Newsom,
Regional Administrator, Region III.

Accordingly, the addition of 40 CFR part 70, Appendix A, “Virginia”, paragraph (b) is withdrawn as of November 21, 2001.

[FR Doc. 01-29102 Filed 11-20-01; 8:45 am]

BILLING CODE 6560-50-P